DEPARTMENT OF COMMERCE

National Oceanic and Atmospheric Administration

[I.D. 052201C]

Gulf of Mexico Fishery Management Council; Public Meeting

AGENCY: National Marine Fisheries Service (NMFS), National Oceanic and Atmospheric Administration (NOAA), Commerce.

ACTION: Notice of public meetings.

SUMMARY: The Gulf of Mexico Fishery Management Council will convene public meetings of the Standing and Special Reef Fish Scientific and Statistical Committee (SSC) on Tuesday, June 12, 2001 and the Reef Fish Advisory Panel (AP) on Wednesday, June 13, 2001.

DATES: The SSC will meet beginning at 8:30 a.m. on June 12, 2001 and will conclude by 5 p.m. The AP will meet beginning at 8:30 a.m. on June 13, 2001 and will conclude by 5 p.m.

ADDRESSES: The meetings will be held at the New Orleans Airport Hilton, 901 Airline Highway, Kenner, LA; telephone: 504-469-5000.

Council address: Gulf of Mexico Fishery Management Council, 3018 U.S. Highway 301 North, Suite 1000, Tampa, FL 33619.

FOR FURTHER INFORMATION CONTACT: Mr. Steven Atran, Population Dynamics Statistician, Gulf of Mexico Fishery Management Council; telephone: 813-228-2815.

SUPPLEMENTARY INFORMATION: The SSC and AP will meet to review and comment on proposals contained in draft Reef Fish Amendment 18, which will establish a 10-year red grouper rebuilding program and address other gear and enforcement issues. The SSC and AP will also be asked to review and comment on a draft Supplemental Environmental Impact Statement (SEIS) which updates the last SEIS (published in 1993 as part of Amendment 5), reviews environmental impacts of the Amendment 18 alternatives, and identifies reef fish essential fish habitat (EFH). The issues contained in draft Reef Fish Amendment 18 and the Council’s preferred alternatives are as follows:

• Longline and buoy gear endorsement (Section 6.1.1):

6.1.1.1 Establish a longline/buoy gear endorsement- [No Preferred Alternative Selected]

6.1.1.2 Transferability of endorsement- Fully transferable

6.1.1.3 Appeals board- Appeals to be handled by NMFS

• Longline and buoy gear boundary line (Section 6.1.2)- [No Preferred Alternative Selected]

• Longline and buoy gear phase-out (Section 6.1.3)- [No Preferred Alternative Selected]

• Use of powerheads when spearfishing (Section 6.2): Require a permit for the use of powerheads when reef fish fishing (both commercially and recreationally), and eliminate the regulatory exemption that allows the use of powerheads in the stressed area for harvest of sand perch, dwarf sand perch, and hogfish.

• Use of reef fish for bait (Section 7.0): Prohibit the use of all species in the reef fish management unit or parts thereof, except sand perch and dwarf sand perch, with any gear for bait. (No preferred alternative on whether to apply this provision to commercial fishing, recreational fishing, or both.)

Vessel monitoring system (Section 8.0): Require fishing vessels engaged in the bottom (reef fish) longline fishery to be equipped with an electronic vessel monitoring system (VMS), with the cost of the vessel equipment, installation, maintenance, and month-to-month communications to be paid or arranged by the owners as appropriate. NMFS will maintain and will publish in the Federal Register a list of type-approved units and communications protocols.

• Dormant reef fish permits (Section 9.0)- [No Preferred Alternative Selected]

• Red grouper rebuilding plan (Section 10.0):

• 10.1 Red Grouper Sustainable Fishing Parameters: Set red grouper maximum sustainable yield (MSY), fishing mortality rate at MSY (FMSY), and spawning stock biomass proxy at MSY (SSMSY) at the range of values estimated by the Reef Fish Stock Assessment Panel, MSY = 6.705 to 7.012 million pounds; FMSY = 0.223 to 0.270; SSMSY = 350.7 to 433.2 million grams female gonad weight.

10.2 Red Grouper Minimum Stock Size Threshold (MSST): Red grouper minimum stock size threshold (MSST) shall be 80% of SSMSY (280.6 to 346.6 million grams female gonad weight).

10.3 Red Grouper Maximum Fishing Mortality Threshold (MFMT): Red grouper maximum fishing mortality threshold (MFMT) shall be FMSY (0.223 to 0.270), or the F consistent with recovery to the MSY level in no more than 10 years.

10.4 Red Grouper Optimum Yield (OY): Red grouper optimum yield (OY) shall be 90% of MSY (6.035 to 6.311 million pounds).

10.5 Red Grouper Rebuilding Strategy: Adopt a 10-year red grouper rebuilding plan based on a constant catch strategy. The annual ABC during the rebuilding period is initially set at 4.3-5.2 million pounds. (This is a reduction of 21%-34% from the 1996-99 average landings of 6.6 million pounds.) This ABC range may be modified following a future stock assessment by a regulatory amendment or plan amendment.

10.6 Commercial Shallow-Water Grouper Closed Seasons- [No Preferred Alternative Selected]

10.7 Recreational Closed Seasons- [No Preferred Alternative Selected]

10.8 Commercial Grouper Trip Limits- [No Preferred Alternative Selected]

10.9 Recreational Grouper Bag Limits- [No Preferred Alternative Selected]

10.10 Closed Areas- [No Preferred Alternative Selected]

Tilefish and Deep-Water Grouper (Section 11.0): Combine tilefish and deep-water grouper into a new deep-water reef fish aggregate, and set the new deep-water reef fish quota at 1.47 million pounds (which is the average annual harvest of tilefish and deep-water grouper from 1996-99).

• Changes to the reef fish management unit (Section 12.0): Add the following species to the management unit: a. Marbled grouper (Epinephelus inermis) - to the shallow-water aggregate, b. Sand tilefish (Malacanthus plumieri)

• Modifications to the Framework Procedure for Setting Total Allowable Catch (TAC) (Section 13.0): The primary modification is to allow a species TAC and commercial-to-recreational allocation to be set for an individual species within an aggregate (such as the shallow-water grouper aggregate) that differs from the aggregate allocation, provided the aggregate allocation remains as specified. A second modification allows NMFS stock assessments to report the status of stocks in terms of biomass or biomass proxy instead of spawning potential ratio (SPR).

Although other non-emergency issues not on the agenda may come before the SSC/AP for discussion, in accordance with the Magnuson-Stevens Fishery Conservation and Management Act, those issues may not be the subject of formal action during these meetings. Actions of the SSC/AP will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by June 5, 2001.

Dated: May 23, 2001.
Richard W. Surdi,
Acting Director, Office of Sustainable Fisheries, National Marine Fisheries Service.

[FR Doc. 01-13437 Filed 5-25-01; 8:45 am]

BILLING CODE 3510-22-S